DEPARTMENT OF AGRICULTURE

Submission for OMB Review; Comment Request

January 7, 2011.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Dairy Heifer Raiser 2010 Study.

OMB Control Number: 0579-NEW.

Summary of Collection: Collection and dissemination of animal health data and information is mandated by 7 U.S.C. 391, the Animal Industry Act of 1884, which established the precursor of the Animal and Plant Health Inspection Service (APHIS), Veterinary Service, and the Bureau of Animal Industry. Legal requirements for examining and reporting on animal disease control methods were further mandated by 7 U.S.C. 8308 of the Animal Health Protection Act, “Detection, Control, and Eradication of Diseases and Pests,” May 13, 2002. This submission is a request for approval to initiate the National Animal Health Monitoring Systems (NAHMS) Dairy Heifer Raiser 2010 Study, an information collection by the Animal and Plant Health Inspection Service (APHIS). The study will be conducted with the assistance of State Animal Health Officials using NAHMS-242, “Dairy Heifer Raiser Questionnaire.” The Dairy Heifer Raiser 2010 Study is a part of an ongoing series of NAHMS studies on the U.S. dairy population.

Need and Use of the Information: The information collected through the Dairy Heifer Raiser 2010 Study will be analyzed and organized into descriptive reports. APHIS will use the data collected to: (1) Provide the first comprehensive information on animal health and management practices for heifer-raising operations; (2) Evaluate the biosecurity risks associated with heifer-raising operations (e.g., commingling cattle from multiple operations, exposing young cattle to Mexican cattle); and (3) Assist in the development of a biosecurity assessment that can be used to evaluate the risk of disease transmission (e.g., Tuberculosis, Bovine Viral diarrhea, etc.). Without this type of data, the ability to detect trends in management, production, and health status, either directly or indirectly, would be reduced or nonexistent.

Description of Respondents: Business or other for-profit.

Number of Respondents: 800.

Frequency of Responses: Reporting: On occasion.

Total Burden Hours: 752.

Ruth Brown,
Departmental Information Collection Clearance Officer.

[FR Doc. 2011-571 Filed 1-12-11; 8:45 am]

BILLING CODE 3410-34-P